Proclamation 9269 of April 30, 2015

Loyalty Day, 2015

By the President of the United States of America

A Proclamation

As Americans, we are united not by the circumstances of our birth or our station in life, but by our fidelity to a set of shared ideals and unalienable rights. The principles of freedom, justice, and equality for all are at the very core of who we are as a Nation. We believe firmly in the power of democracy and opportunity—but we know that these blessings are only what we make of them, and that our experiment in self-government gives work and purpose to each new generation. Today, we recommit to the profoundly patriotic work of doing all we can to better the country we love.

Throughout the course of our history, our values have sustained us through periods of tremendous struggle and times of great prosperity. They found expression in the courage of patriots who loved this country so much that they were willing to risk everything to realize its promise. It was an enormous faith in what our country could be that led hopeful women and men to march on Washington, waving the American Flag—even as they were denied their fundamental rights. And it was the understanding that our Union is a constant work in progress that guided our forebears through places like Seneca Falls, Selma, and Stonewall.

As a Nation, we know the journey to perfect our Union is unending, and we are strong enough to be self-critical. We can look upon our imperfections and decide that it is within our power to remake our country to more closely align with our highest ideals. On Loyalty Day, we reaffirm the belief that loving this great Nation requires more than singing its praises or avoiding uncomfortable truths. It requires the willingness to speak out for what is right and to recognize that change depends on our actions, our attitudes, and the values we teach our children. Let us never forget America is exceptional because we each have the capacity to shape our own destiny and change the course of our Union's history.

In order to recognize the American spirit of loyalty and the sacrifices that so many have made for our Nation, the Congress, by Public Law 85-529 as amended, has designated May 1 of each year as “Loyalty Day.” On this day, let us reaffirm our allegiance to the United States of America and pay tribute to the heritage of American freedom.

NOW, THEREFORE, I, BARACK OBAMA, President of the United States of America, do hereby proclaim May 1, 2015, as Loyalty Day. This Loyalty Day, I call upon all the people of the United States to join in support of this national observance, whether by displaying the Flag of the United States or pledging allegiance to the Republic for which it stands.

IN WITNESS WHEREOF, I have hereunto set my hand this thirtieth day of April, in the year of our Lord two thousand fifteen, and of the Independence of the United States of America the two hundred and thirty-ninth.

[FR Doc. 2015-10913

Filed 5-4-15; 11:15 am]

Billing code 3295-F5